DEPARTMENT OF ENERGY

DOE/FESAC Fusion Energy Sciences Advisory Committee

AGENCY: Office of Science, Department of Energy.

ACTION: Notice of open meeting.

SUMMARY: This notice announces a meeting of the Fusion Energy Sciences Advisory Committee. The Federal Advisory Committee Act requires that public notice of these meetings be announced in the Federal Register.

DATES: Tuesday, April 30, 2019; 4:00 p.m. to 6:00 p.m. EDT.

ADDRESSES: Teleconference Remote Attendance Only. Instructions will be posted on the FESAC website http://science.energy.gov/fes/fesac/meetings/).

FOR FURTHER INFORMATION CONTACT: Samuel J. Barish, Acting Designated Federal Officer, Office of Fusion Energy Sciences (FES); U.S. Department of Energy; 1000 Independence Avenue SW; Washington, DC 20585-1290; Telephone: (301) 903-2917; email: sam.barish@science.doe.gov.

SUPPLEMENTARY INFORMATION:

Purpose of the meeting: To discuss a long-range strategic plan for the Fusion Energy Sciences program.

Tentative Agenda Items:

• Continuing FESAC discussions on a long-range strategic plan for the Fusion Energy Sciences program

• Public Comment

• Adjourn

Note: Remote attendance of the FESAC meeting will be via Zoom.

Instructions will be posted on the FESAC website http://science.energy.gov/fes/fesac/meetings/ prior to the meeting and can also be obtained by contacting Dr. Samuel J. Barish by email (sam.barish@science.doe.gov) or by phone (301) 903-2917.

Public Participation: The meeting is open to the public. If you would like to file a written statement with the Committee, you may do so either before or after the meeting. If you would like to make an oral statement regarding any of the items on the agenda, you should contact Dr. Samuel J. Barish at 301-903-8584 (fax) or sam.barish@science.doe.gov (email). Reasonable provision will be made to include the scheduled oral statements during the Public Comments time on the agenda. The Chairperson of the Committee will conduct the meeting to facilitate the orderly conduct of business. Public comment will follow the 10-minute rule.

Minutes: The minutes of the meeting will be available for public review and copying within 30 days at the Freedom of Information Public Reading Room; 1G-033, Forrestal Building; 1000 Independence Avenue SW; Washington, DC 20585; between 9:00 a.m. and 4:00 p.m., Monday through Friday, except holidays, and on the Fusion Energy Sciences Advisory Committee website— http://science.energy.gov/fes/fesac/

Signed in Washington, DC.
Antionette M. Watkins,
Acting Deputy Committee Management Officer.

[FR Doc. 2019-07301 Filed 4-11-19; 8:45 am]

BILLING CODE 6450-01-P